DEPARTMENT OF TRANSPORTATION

Federal Aviation Administration

14 CFR Part 39

[Docket No. 2003-CE-04-AD]

RIN 2120-AA64

Airworthiness Directives; AeroSpace Technologies of Australia Pty Ltd. Models N22B and N24A Airplanes

AGENCY: Federal Aviation Administration, DOT.

ACTION: Notice of proposed rulemaking (NPRM).

SUMMARY: This document proposes to supersede Airworthiness Directive (AD) 82-12-06, which applies to certain AeroSpace Technologies of Australia Pty Ltd. (ASTA) Models N22B and N24A airplanes. AD 82-12-06 currently requires repetitive visual inspections of all rudder control lever shaft assemblies for cracks and discrepancies, and, if cracks or discrepancies are found, it requires replacement with new or serviceable rudder control shafts, and a check of the fit of all rod end bearings in lever shafts. AD 82-12-06 also allows you to inspect all lever shafts by magnetic particle inspection or dye penetrant methods as terminating action for the repetitive visual inspections. This proposed AD is the result of recent reports of failures of the upper control lever torque shaft due to fatigue loading on the affected airplanes, including those that included the terminating actions. This proposed AD would require more detailed repetitive inspections (than there are in AD 82-12-06) of the upper and lower rudder pedal torque shafts and a one-time inspection for discrepancies in the thickness of the lever shaft side plates with appropriate follow-up action. The actions specified by this proposed AD are intended to detect and correct cracks in the rudder control lever torque shafts and discrepancies in the thickness of the lever shaft side plates, which could result in failure of the rudder control lever torque shaft. Such failure could lead to reduced controllability of the airplane.

DATES: The FAA must receive any comments on this rule on or before June 9, 2003.

ADDRESSES: Submit comments to FAA, Central Region, Office of the Regional Counsel, Attention: Rules Docket No. 2003-CE-04-AD, 901 Locust, Room 506, Kansas City, Missouri 64106. You may view any comments at this location between 8 a.m. and 4 p.m., Monday through Friday, except Federal holidays. You may also send comments electronically to the following address: 9-ACE-7—Docket@faa.gov. Comments sent electronically must contain “Docket No. 2003-CE-04-AD” in the subject line. If you send comments electronically as attached electronic files, the files must be formatted in Microsoft Word 97 for Windows or ASCII text.

You may get service information that applies to this proposed AD from Nomad Operations, Aerospace Support Division, Boeing Australia, PO Box 767, Brisbane, QLD 4000 Australia; telephone 61 7 3306 3366; facsimile 61 7 3306 3111. You may also view this information at the Rules Docket at the address above.

FOR FURTHER INFORMATION CONTACT: Ron Atmur, Aerospace Engineer, FAA, Los Angeles Aircraft Certification Office, 3960 Paramount Boulevard, Lakewood, California 90712; telephone (562) 627-5224; facsimile (562) 627-5210.

SUPPLEMENTARY INFORMATION:

Comments Invited

How do I comment on this proposed AD? The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How can I be sure FAA receives my comment? If you want FAA to acknowledge the receipt of your mailed comments, you must include a self-addressed, stamped postcard. On the postcard, write “Comments to Docket No. 2003-CE-04-AD.” We will date stamp and mail the postcard back to you.

Discussion

Has FAA taken any action to this point? Reports of cracking and other discrepancies on rudder control lever shaft assemblies on certain ASTA Models N22B and N24A airplanes caused us to issue AD 82-12-06, Amendment 39-4399. AD 82-12-06 currently requires the following on certain ASTA Models N22B and N24A airplanes:

—Repetitively inspecting visually all rudder control lever shafts for cracking;

—If cracks are found, before further flight, replacing with new or serviceable rudder control shafts;

—Checking for clearance of the fit of all rod end bearings in lever shafts; and

—Discontinuing the repetitive visual inspections when lever shafts are inspected either by magnetic particle inspection or dye penetrant methods.

What has happened since AD 82-12-06 to initiate this proposed action? The Civil Aviation Safety Authority (CASA), which is the airworthiness authority for Australia, recently notified FAA of the need to change AD 82-12-06. The CASA reports failures of the rudder control lever shaft. All the failures have occurred during ground operations and nosewheel steering/rudder loads are now considered the primary cause of the failure.

Some of the failures occurred on airplanes where the terminating action of AD 82-12-06 was incorporated.

Is there service information that applies to this subject? ASTA has issued Nomad Alert Service Bulletin ANMD-27-51, dated September 13, 2002.

What are the provisions of this service bulletin? The service bulletin includes procedures for:

—Repetitively inspecting, using either dye penetrant or magnetic particle methods and measurements, rudder control lever shafts for cracks;

—Inspecting (one-time) all lever shaft side plates by measuring the thickness; and

—If cracks or discrepancies in thickness are found, replacing unserviceable parts with new or serviceable parts.

What action did the CASA take? The CASA classified this service bulletin as mandatory and issued Australian AD GAF-N22/44, dated November 14, 2002, in order to ensure the continued airworthiness of these airplanes in Australia.

Was this in accordance with the bilateral airworthiness agreement? These airplane models are manufactured in Australia and are type certificated for operation in the United States under the provisions of § 21.29 of the Federal Aviation Regulations (14 CFR 21.29) and the applicable bilateral airworthiness agreement.

Pursuant to this bilateral airworthiness agreement, the CASA has kept FAA informed of the situation described above.

The FAA's Determination and an Explanation of the Provisions of This Proposed AD

What has FAA decided? The FAA has examined the findings of the CASA; reviewed all available information, including the service information referenced above; and determined that:

—The unsafe condition referenced in this document exists or could develop on Models N22B and N24A airplanes of the same type design that are on the U.S. registry;

—The actions specified in the previously-referenced service information should be accomplished on the affected airplanes including those that have the terminating action of AD 82-12-06 incorporated; and

—AD action should be taken in order to correct this unsafe condition.

What would this proposed AD require? This proposed AD would supersede AD 82-12-06 with a new AD that would require the actions specified in the above-referenced service information.

How does the revision to 14 CFR part 39 affect this proposed AD? On July 10, 2002, FAA published a new version of 14 CFR part 39 (67 FR 47997, July 22, 2002), which governs FAA's AD system. This regulation now includes material that relate to special flight permits, alternative methods of compliance, and altered products. This material previously was included in each individual AD. Since this material is included in 14 CFR part 39, we will not include it in future AD actions.

Cost Impact

How many airplanes would this proposed AD impact? We estimate that this proposed AD affects 10 airplanes in the U.S. registry.

What would be the cost impact of this proposed AD on owners/operators of the affected airplanes? We estimate the following costs to accomplish this proposed initial inspection:

Labor cost | Parts cost | Total cost Per Airplane | Total cost in U.S. operators
12 workhours × $60 per hour = $720 | Not Applicable | $720 | 10 × $720 = $7,200.

We estimate the following costs to accomplish any necessary repetitive inspections:

Labor cost | Parts cost | Total cost per airplane
2 workhours × $60 per hour = $120 | Not Applicable | $120.

We estimate the following costs to accomplish any necessary lever shaft replacements that would be required based on the results of the proposed inspections. We have no way of determining the number of airplanes that may need such replacement:

Labor cost | Parts cost | Total cost per airplane
12 workhours × $60 per hour = $720 | $930 | $720 + $930 = $1650.

We estimate the following costs to accomplish any necessary lever shaft side plate replacements that would be required based on the results of the proposed inspection. We have no way of determining the number of airplanes that may need such replacement:

Labor cost | Parts cost | Total cost per airplane
12 workhours × $60 per hour = $720 | $930 | $720 + $930 = $1650.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 82-12-06, Amendment 39-4399, and by adding a new AD to read as follows:

Aerospace Technologies of Australia PTY LTD.: Docket No. 2003-CE-04-AD; Supersedes AD 82-12-06, Amendment 39-4399.

(a) What airplanes are affected by this AD? This AD affects Models N22B and N24A airplanes, all serial numbers, that are certificated in any category.

(b) Who must comply with this AD? Anyone who wishes to operate any of airplanes identified in paragraph (a) of this AD must comply with this AD.

(c) What problem does this AD address? The actions specified by this AD are intended to detect and correct cracks in the rudder control lever torque shafts and discrepancies in the thickness of the lever shaft side plates, which could result in failure of the rudder control lever torque shaft. Such failure could lead to reduced controllability of the airplane.

(d) What actions must I accomplish to address this problem? To address this problem, you must accomplish the following:

Actions | Compliance | Procedures
(1) Inspect the rudder control lever shafts, part numbers (P/N) 2/N-45-1102, 1/N-45-1103, and 1/N-45-1104 (or FAA-approved equivalent part numbers) for cracks use dye penetrant while the shaft is installed; or either dye penetrant inspection or magnetic particle methods if the shaft is removed | Within the next 100 hours time-in-service (TIS) after the effective date of this AD, unless already accomplished | In accordance with Nomad Alert Service Bulletin ANMD-27-51, dated September 13, 2002, and the applicable maintenance manual.
(2) Inspect all lever shaft side plates on P/Ns 2/N-45-1102, 1/N-45-1103, and 1/N-45-1104 (or FAA-approved equivalent part numbers) by measuring the thickness for discrepancies | Within the next 100 hours TIS after the effective date of this AD, unless already accomplished | In accordance with Nomad Alert Service Bulletin ANMD-27-51, dated September 13, 2002, and the applicable maintenance manual.
(3) Visually inspect all rudder control lever shafts P/Ns 2/N-45-1102, 1/N-45-1103, and 1/N-45-1104 (or FAA-approved equivalent part numbers) for cracks | Repetitively inspect at intervals not to exceed 100 hours TIS after the inspection required in paragraph (d)(1) of this AD | In accordance with Nomad Alert Service Bulletin ANMD-27-51, dated September 13, 2002, and the applicable maintenance manual.
(4) If damage is found during any inspection required by this AD: (i) for lever shafts found with crack damage, replace with new or serviceable items. | Prior to further flight after any inspection required by this AD | In accordance with Nomad Alert Service bulletin ANMD-27-51, dated September 13, 2002, and the applicable maintenance manual.
(ii) For discrepancies in the thickness of lever shaft side plates, obtain a repair scheme from the manufacturer through FAA at the address specified in paragraph (e) of this AD and incorporate this repair scheme.
(iii) Repairable and nonrepairable damage is defined in the service information.

(e) Can I comply with this AD in any other way?

(1) To use an alternative method of compliance or adjust the compliance time, follow the procedures in 14 CFR 39.13. Send these requests to the Manager, Los Angeles Aircraft Certification Office. For information on any already approved alternative methods of compliance, contact Ron Atmur, Aerospace Engineer, FAA, Los Angeles Aircraft Certification Office, 3960 Paramount Boulevard, Lakewood, California 90712; telephone (562) 627-5224; facsimile (562) 627-5210.

(2) Alternative methods of compliance approved in accordance with AD 82-12-06, which is superseded by this AD, are not approved as alternative methods of compliance with this AD.

(f) How do I get copies of the documents referenced in this AD? You may obtain copies of the documents referenced in this AD from Nomad Operations, Aerospace Support Division, Boeing Australia, PO Box 767, Brisbane, QLD 4000 Australia; telephone 617 3306 3366; facsimile 61 7 3306 3111. You may examine these documents at FAA, Central Region, Office of the Regional Counsel, 901 Locust, Room 506, Kansas City, Missouri 64106.

(g) Does this AD action affect any existing AD actions? This amendment supersedes AD 82-12-06, Amendment 39-4399.

Note: The subject of this AD is addressed in Australian AD GAF-N22/44, dated November 14, 2002.

Issued in Kansas City, Missouri, on April 21, 2003.
Michael Gallagher,
Manager, Small Airplane Directorate, Aircraft Certification Service.

[FR Doc. 03-10516 Filed 4-28-03; 8:45 am]

BILLING CODE 4910-13-P